DEPARTMENT OF ENERGY

Agency Information Collection Extension

AGENCY: Department of Energy.

ACTION: Submission for Office of Management and Budget (OMB) review; comment request.

SUMMARY: The Department of Energy (DOE) has submitted an information collection request to the OMB for extension under the provisions of the Paperwork Reduction Act of 1995. The information collection requests a three-year extension of its Weatherization Assistance Program (WAP), OMB Control Number 1910-5127. The Department of Energy (DOE) Weatherization Assistance Program (WAP) is a formula grant program. DOE has developed four forms designed to reduce the length of time to input information and provide a consistent format for all States to submit as part of their State Application and Plan process. This activity will benefit the program and State because all forms are in electronic format that will populate a database for program information. The program information captured will be used to provide the most current program information for budget, congressional and public inquiries to the program. The forms will be used as part of the Grants.gov process.

DATES: Comments regarding this collection must be received on or before July 7, 2008. If you anticipate that you will be submitting comments, but find it difficult to do so within the period of time allowed by this notice, please advise the OMB Desk Officer of your intention to make a submission as soon as possible. The Desk Officer may be telephoned at 202-395-4650.

ADDRESSES: Written comments should be sent to the

DOE Desk Officer,

Office of Information and Regulatory Affairs,

Office of Management and Budget,

New Executive Office Building,

Room 10102, 735 17th Street, NW.,

Washington, DC 20503;

and

Elnora Long, EE-2K,

U.S. Department of Energy,

1000 Independence Ave., SW.,

Washington, DC 20585-1290,

Fax #: (202) 586-1233,

elnora.long@ee.doe.gov.

FOR FURTHER INFORMATION CONTACT: Elnora Long, EE-2K, U.S. Department of Energy, 1000 Independence Ave., SW., Washington, DC 20585-1290, Fax #: (202) 586-1233, elnora.long@ee.doe.gov.

SUPPLEMENTARY INFORMATION: This information collection request contains: (1) OMB No. 1910-5127; (2) Information Collection Request Title: Weatherization Assistance Program; (3) Purpose: The Weatherization Assistance Program provides grants to States, the District of Columbia and Native American Tribes annually; (4) Estimated Number of Respondents: 52 (Fifty Two) States and Territories; (5) Estimated Total Burden Hours: 3 hours per respondent; (6) Number of Collections: The information collection request contains 3 information and/or recordkeeping requirements.

Statutory Authority: 10 CFR part 440

Issued in Washington, DC, on June 2, 2008.
Alexander A. Karsner,
Assistant Secretary, Energy Efficiency and Renewable Energy.

[FR Doc. E8-12678 Filed 6-5-08; 8:45 am]

BILLING CODE 6450-01-P